DEPARTMENT OF THE TREASURY

Fiscal Service

[Dept. Circular 570; 2013 Revision]

Companies Holding Certificates of Authority as Acceptable Sureties on Federal Bonds and as Acceptable Reinsuring Companies

Correction

In notice document 2013-15435, appearing in the Issue of Monday, July 1, 2013, on pages 39440-39459, make the following corrections:

1. On page 39440, in the first column, in the first paragraph, “Financial Management Service” should read “Bureau of the Fiscal Service”.

2. On page 39452, in the third column, “Pennsylvania General Insurance Company (NAIC #21962)6” should be set in bold-face print as follows: “Pennsylvania General Insurance Company (NAIC #21962)6” and should be set as a separate entry without indentation.

3. On page 39456, in the second column “UNIVERSAL UNDERWRITERS INSURANCE COMPANY (NAIC #41181)” should appear in bold-face print and should read as follows: “UNIVERSAL UNDERWRITERS INSURANCE COMPANY (NAIC #41181)7.”

4. On 39458, in the table, in the first column, the entry reading “Colorado, Denver 80202 (303)” should read “Colorado, Denver 80202” and in the second column, the entry “894-7499” should read “(303) 894-7499”.

[FR Doc. C1-2013-15435 Filed 7-3-13; 8:45 am]

BILLING CODE 1505-01-D